DEPARTMENT OF HEALTH AND HUMAN SERVICES

National Institutes of Health

Office of the Director, National Institutes of Health; Amended Notice of Meeting

Notice is hereby given of a change in the meeting of the Recombinant DNA Advisory Committee, September 9, 2009, 1:15 p.m. to September 10, 2009, 11 a.m., Hilton Washington/Rockville, 1750 Rockville Pike, Rockville, MD 20852 which was published in the Federal Register on August 19, 2009, 74 FR 41914.

The meeting will be held only on September 9 from 8:30 a.m. to 5 p.m. at the Hilton Rockville Hotel and Executive Center. The meeting is open to the public.

Dated: August 26, 2009.
Jennifer Spaeth,
Director, Office of Federal Advisory Committee Policy.

[FR Doc. E9-21218 Filed 9-1-09; 8:45 am]

BILLING CODE 4140-01-P